DEPARTMENT OF LABOR

Pension and Welfare Benefits Administration

Exemption Application No. D-10384; Deutsche Bank AG, et al. (Deutsche Bank)

AGENCY: Pension and Welfare Benefits Administration,Labor (the Department).

ACTION: Notice of technical correction.

On February 1, 2000, the Department published in the Federal Register (65 FR 4843) a notice of proposed exemption for Deutsche Bank which would allow the assets of certain employee benefit plans to be invested in synthetic guaranteed investment contracts (the Buy & Hold Synthetic GICs) that would be offered by Deutsche Bank. Due to a printing error, appearing on page 4846 of the proposed exemption in Representation 7, the formula for computing the Crediting Rate for each Buy & Hold Synthetic GIC, was stated as follows:

The Department notes that the correct formula for calculating the Crediting Rate is

and it hereby amends the proposal.

FOR FURTHER INFORMATION CONTACT: Ms. Jan D. Broady of the Department at (202) 219-8881. (This is not a toll-free number.)

Signed at Washington, DC this 3rd day of February, 2000.
Ivan L. Strasfeld,
Director of Exemption Determinations, Pension and Welfare Benefits Administration, Department of Labor.

[FR Doc. 00-2857 Filed 2-7-00; 8:45 am]

BILLING CODE 4510-29-P